SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 20, 2009.

ADDRESSES: Send all comments regarding whether this information collection is necessary for the proper performance of the function of the agency, whether the burden estimates are accurate, and if there are ways to minimize the estimated burden and enhance the quality of the collection, to Gail Hepler, Chief, 7a Loan Policy, Office of Financial Assistance, Small Business Administration, 409 3rd Street, 8th Floor, Washington, DC 20416.

FOR FURTHER INFORMATION CONTACT: Gail Hepler, Chief, 7a Loan Policy Branch, Office of Financial Assistance, 202-205-7530, gail.hepler@sba.gov; Curtis B. Rich, Management Analyst, 202-205-7030, curtis.rich@sba.gov.

SUPPLEMENTARY INFORMATION: The information collected through these forms is used to receive essential information from the small business applicant and the participating lender to determine eligibility and to properly evaluate and consider the merits of each loan request based on each criteria as character, capacity, credit, collateral, etc. for the purpose of extending credit under the 7(a) program.

Title: “Applications for Business Loans”.

Description of Respondents: Applicants applying for a SBA Loan.

Form Numbers: 4, 4SCH-A, 4I, 4L.

Annual Responses: 21,000.

Annual Burden: 295,505.

Addresses: Send all comments regarding whether this information collection is necessary for the proper performance of the function of the agency, whether the burden estimates are accurate, and if there are ways to minimize the estimated burden and enhance the quality of the collection, to Barbara Brannan, Special Assistant, Office of Surety Bond Guarantee, Small Business Administration, 409 3rd Street, 8th Floor, Washington, DC 20416.

FOR FURTHER INFORMATION CONTACT: Barbara Brannan, Special Assistant, Office of Surety Bond Guarantee Program, 202-205-6545, barbara.brannan@sba.gov; Curtis B. Rich, Management Analyst, 202-205-7030, curtis.rich@sba.gov.

SUPPLEMENTARY INFORMATION: SBA's Surety Bond Guarantee (SBG) Program was created to encourage surety companies to provide bonding for small contractors. The information collected on these forms is used to evaluate the capability and potential success of small contractors in the SBG Program.

Title: “Surety Bond Guarantee Assistance”.

Description of Respondents: Small Business Contractors Applying for the Surety Bond.

Form Numbers: 990, 991, 994, 994B, 994F, 994H.

Annual Responses: 17,916.

Annual Burden: 1,959.

Jacqueline White,
Chief, Administrative Information Branch.

[FR Doc. E9-3182 Filed 2-13-09; 8:45 am]

BILLING CODE 8025-01-P